DEPARTMENT OF JUSTICE

Antitrust Division

Notice Pursuant to The National Cooperative Research and Production Act of 1993—Countering Weapons of Mass Destruction

Notice is hereby given that, on April 3, 2023, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Carnegie Mellon University, Pittsburgh, PA; Conafay Group LLC, Washington, DC; Decryptor, Inc., Richardson, TX; Electromagnetic Systems, Inc., El Segundo, CA; Fairbanks Morse LLC, Beloit, WI; GlyderTech, Inc., Bozeman, MT; and North American Rescue LLC, Greer, SC, have been added as parties to this venture.

Also, ALEX-Alternative Experts LLC, Dumfries, VA; Artis LLC, Herndon, VA; Deep Analytics LLC, Montpelier, VT; Encryptor, Inc., Richardson, TX; Fairlead Integrated LLC, Portsmouth, VA; Integrity Consulting Engineering and Security Solutions, Purcellville, VA; Kinsa, Inc., San Francisco, CA; Knowledge Based Systems, Inc., College Station, TX; Onyx Government Services, Centreville, VA; Rose Developments, Inc., Virginia Beach, VA; Selection Pressure LLC dba ION Channel, Alexandria, VA; SGSD Partners LLC, Washington, DC; SRI International, St. Petersburg, FL; Vertex Solutions LLC, Champaign, IL; and WGS Systems LLC, Frederick, MD, have withdrawn as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to section 6(b) of the Act on March 12, 2018 (83 FR 10750).

The last notification was filed with the Department on January 4, 2023. A notice was published in the Federal Register pursuant to Section 6(b) of the Act on January 25, 2023 (88 FR 4848).

Suzanne Morris,
Deputy Director, Civil Enforcement Operations, Antitrust Division.

[FR Doc. 2023-12509 Filed 6-9-23; 8:45 am]

BILLING CODE 4410-11-P